DEPARTMENT OF ENERGY

Federal Energy Regulatory Commission

[Docket No. OR05-9-000]

Flint Hills Resources Alaska, LLC, et al.; Notice of Complaint and Request for Fast Track Processing

July 12, 2005.

Take notice that on July 11, 2005, Flint Hills Resources Alaska, LLC tendered for filing a Complaint, Request for Refunds or Reparations, and Request for Fast Track Processing against ConocoPhillips Alaska, Inc., Exxo Mobil Corporation, Tesoro Alaska Company, BP America Production Company, BP Exploration (Alaska) Inc., OXY USA Inc., Union Oil Company of California, Petro Star Inc., State of Alaska, BP Pipelines (Alaska) Inc., ConocoPhillips Transportation Alaska, Inc., ExxonMobil Pipeline Company, Koch Alaska Pipeline Company LLC, and Unocal Pipeline Company, Flint Hills Resources Alaska, LLC alleges that the portion of the Trans Alaska Pipeline System (TAPS) Quality Bank methodology relating to the valuation of the West Coast vacuum gas oil (VGO) cut is unjust and unreasonable under the Interstate Commerce Act and is otherwise unlawful. Flint Hill Resources Alaska, LLC requests the Commission immediately institute a new reference price of West Coast VGO, grant refunds, reparations, damages and other appropriate relief.

Flint Hills Resources Alaska, LLC states that copies of the Complaint were served on the contacts for the listed parties.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all parties to this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. eastern time on August 1, 2005.

Linda Mitry,
Deputy Secretary.

[FR Doc. E5-3798 Filed 7-15-05; 8:45 am]

BILLING CODE 6717-01-P